DEPARTMENT OF TRANSPORTATION

Federal Aviation Administration

14 CFR Part 71

[Docket No. FAA-2004-19410; Airspace Docket No. 04-ANM-09]

RIN 2120-AA66

Revision of Federal Airways V-2, V-257 and V-343; MT

AGENCY: Federal Aviation Administration (FAA), DOT.

ACTION: Final rule.

SUMMARY: This action revises three Very High Frequency Omnidirectional Range (VOR) Federal airways southeast of Missoula, MT (V-2, V-257, and V-343). These VOR Federal airways are being revised due to the decommissioning of the Drummond VOR. These changes will enhance air safety, simplify routings, and reduce controller workload in Montana.

DATES: Effective 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Background

On December 3, 2004, the FAA published in the Federal Register a notice of proposed rulemaking to revise VOR Federal airways V-2, V-257, and V-343 southeast of Missoula, MT due to the decommissioning of the Drummond VOR (69 FR 70208). Interested parties were invited to participate in this rulemaking effort by submitting written comments on the proposal. One comment was received stating the radials defining V-257 from Phoenix, AZ, to Drake, AZ, were incorrect. The FAA does not agree. A review of V-257 verified that the correct true bearings are listed for V-257 from Phoenix, AZ, to Drake, AZ. With the exception of editorial changes, this amendment is the same as that published in the notice of proposed rulemaking.

The Rule

The FAA is amending Title 14 Code of Federal Regulations (14 CFR) part 71 (part 71) to revise V-2, V-257, and V-343 southeast of Missoula, MT. Specifically, segments of V-2 and V-343 will be eliminated due to the decommissioning of the Drummond VOR. New airway segments on V-2 (between Missoula, MT, and Helena, MT) and V-257 (between SCAAT intersection and the Coppertown VOR) will be established in their place. This action will enhance air safety, simplify routings, and reduce controller workload in Montana.

Domestic VOR Federal airways are published in paragraph 6010(a) of FAA Order 7400.9M dated August 30, 2004, and effective September 16, 2004, which is incorporated by reference in 14 CFR 71.1. The Federal airways listed in this document will be published subsequently in the order.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6010(a) Domestic VOR Federal Airways.

* * * * *

V-2 [Revised]

From Seattle, WA; Ellensburg, WA; Moses Lake, WA; Spokane, WA; Mullan Pass, ID; Missoula, MT; Helena, MT; INT Helena 119° and Livingston, MT, 322° radials; Livingston; Billings, MT; Miles City, MT; 24 miles, 90 miles, 55 MSL, Dickinson, ND; 10 miles, 60 miles, 38 MSL, Bismarck, ND; 14 miles, 62 miles, 34 MSL, Jamestown, ND; Fargo, ND; Alexandria, MN; Gopher, MN; Nodine, MN; Lone Rock, WI; Madison, WI; Badger, WI; Muskegon, MI; Lansing, MI; Salem, MI; INT Salem 093° and Aylmer, ON, Canada, 254° radials; Aylmer; INT Aylmer 086° and Buffalo, NY, 259° radials; Buffalo; Rochester, NY; Syracuse, NY; Utica, NY; Albany, NY; INT Albany 084° and Gardner, MA, 284° radials; to Gardner. The airspace within Canada is excluded.

* * * * *

V-257 [Revised]

From Phoenix, AZ, via INT Phoenix 348° and Drake, AZ, 141° radials; Drake; INT Drake 003° and Grand Canyon, AZ, 211° radials; Grand Canyon; 38 miles 12 AGL, 24 miles 125 MSL, 16 miles 95 MSL, 26 miles 12 AGL, Bryce Canyon, UT; INT Bryce Canyon 338° and Delta, UT, 186° radials, Delta; 39 miles, 105 MSL INT Delta 004° and Malad City, ID, 179° radials; 20 miles, 118 MSL, Malad City; Pocatello, ID; DuBois, ID; Dillon, MT; Coppertown, MT; INT 002° and Great Falls, MT, 222° radials; Great Falls; 73 miles, 56 MSL, Havre, MT. The airspace within Restricted Area R-6403 is excluded.

* * * * *

V-343 [Revised]

From Dubois, ID; Bozeman, MT.

* * * * *

Issued in Washington, DC, May 10, 2005.
Edith V. Parish,
Acting Manager, Airspace and Rules.

[FR Doc. 05-9922 Filed 5-17-05; 8:45 am]

BILLING CODE 4910-13-P